DEPARTMENT OF COMMERCE

Census Bureau

The 2010 Census Count Question Resolution Program

AGENCY: U.S. Census Bureau, Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before July 26, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Christa D. Jones, Assistant Division Chief, Count Question Resolution Office, Room 3H061, Decennial Management Division, U.S. Census Bureau, Washington, DC 20233. Telephone: 301-763-7310; FAX: 301-763-8327 or e-mail: dmd_cqr@census.gov.

SUPPLEMENTARY INFORMATION:

I. Abstract

The Count Question Resolution (CQR) program will address corrections for three types of challenges for the 2010 Decennial Census: (1) Boundary, (2) geocoding, and (3) coverage. The CQR program is not a mechanism or process to challenge or revise the population counts sent to the President by December 31, 2010, which are used to apportion the U.S. House of Representatives. The Census Bureau will accept challenges between June 1, 2011, and June 1, 2013. The Census Bureau will review challenges in the order they are received.

The CQR program procedures include researching challenges and, as appropriate, making corrections and issuing revised official population and housing unit counts, which the Census Bureau will also use for the Census Bureau's Population Estimates program. The Census Bureau will not accept challenges to the overseas counts of persons in the military and Federal civilian personnel stationed overseas and their dependents living with them. The Census Bureau obtains overseas counts using administrative records and uses the records solely for apportioning seats in the U.S. House of Representatives. These records do not provide the sub-State geographic information required for the CQR program.

The Census Bureau will only accept challenges from the highest elected official of State, local, and Tribal area governments or those representing them or acting on their behalf. All challenges must be sent to the Census Bureau's headquarters.

The Census Bureau will make all corrections on the basis of appropriate documentation provided by the challenging entities and through research of the official 2010 Census records by the Census Bureau. The Census Bureau will not collect additional data for the enumeration of living quarters through the CQR program. The Census Bureau will respond to all challenges and will notify all affected governmental units of any corrections to their official counts as a result of a CQR program decision.

Corrections made to the population and housing unit counts by this program will result in the issuance of new official 2010 Census counts to the officials of governmental units affected. These corrections may be used by the governmental units for future programs requiring official 2010 Census data. The Census Bureau will use these corrections to:

—Specifically modify the decennial census file for use in annual postcensal estimates beginning in December 2012, and

—Create the errata information we will make available on the Census Bureau's American FactFinder Web site at http://factfinder.census.gov.

The Census Bureau will NOT incorporate the CQR corrections into 2010 data summary files and tables prepared after the CQR process begins nor will the Census Bureau re-tabulate Summary File 1 or Demographic Profile tables.

Background

The Census Bureau has a comprehensive program to improve the quality of the housing unit and population counts. In 2002, the Census Bureau initiated the Master Address File/Topologically Integrated Geographic Encoding and Referencing (MAF/TIGER) Accuracy Improvement Project (MTAIP) as part of the MAF/TIGER Enhancements Program (MTEP). This project acquired geographic information system (GIS) files, aerial photography, and GPS data from various sources nationwide to update the TIGER database. One of the primary goals of the project was to develop a highly accurate geographic database of the United States, Puerto Rico, and the Island Areas. The Census Bureau focused on improving the accuracy of street feature coordinates to provide base information suitable for use with GPS-equipped hand-held devices that would facilitate the gathering of accurate location and census information for all living quarters and workplaces.

The Census Bureau implemented a number of address list development programs in preparation for the 2010 Census, the earliest of which was the Local Update of Census Addresses (LUCA) program that started in 2007. Participating State, local and Tribal area governments were given the opportunity to review and update the Census Bureau's address list of living quarters before it was used for the actual census enumeration. In cases where the State, local, or Tribal area government and the Census Bureau could not agree on the address list, the governmental unit could use an appeal process administered by the LUCA Appeals Office, which was set up by the Office of Management and Budget to provide an independent adjudication. The full LUCA operation included participant review of materials from November 2007-March 2008; Census Bureau Address Canvassing field work from March-July 2009; LUCA Detailed Feedback to participants from October-November 2009; and the LUCA Appeals process which concluded at the end of March 2010. In addition to LUCA, governmental units with city-style address areas had another opportunity to update the 2010 Census address list via the New Construction program, which occurred from November 2009-March 2010. Between 2009 and 2010, the Census Bureau conducted the Boundary Validation Program. This program provided highest elected officials and Tribal chairpersons with maps that showed boundaries of their respective jurisdictions and instructed them how to make boundary corrections.

From September-October 2009, the Census Bureau also conducted the Group Quarters Validation and Reinterview operations to verify or correct address records identified as group quarters. From March through April 2010, the Census Bureau conducted the Enumeration at Transitory Locations operation that was designed to enumerate eligible populations living in transitory locations such as campgrounds and marinas. After the development of the 2010 Census mailing list, a number of situations occurred requiring the Census Bureau to implement an additional mail delivery. This was referred to as the Mail Delivery for Late Adds and included city-style addresses from the LUCA appeals, Census Bureau research of ungeocoded addresses in the Master Address File, and additional self-response from the spring 2010 Delivery Sequence File update from the U.S. Postal Service. The Mail Delivery for the Late Adds operation reduced the number of addresses included in the Nonresponse Follow-up (NRFU) Vacant Delete Check operation.

Between April and August 2010, the Coverage Follow-up (CFU) operation will improve the 2010 Census by calling households that are identified as having a potential error in their household count. From July through August 2010, the NRFU Vacant Delete Check operation verified the vacant and delete assessments of census workers. Vacant Delete Check also enumerates housing units that census workers inaccurately classified as vacant or nonexistent in an earlier census operation. It also enumerated added housing units discovered in an earlier census operation such as those added or reinstated through the 2010 LUCA appeals process; records added from the Housing Unit Address Review conducted as part of the Count Review operation; records added as a result of research into potentially missed addresses in Address Canvassing (as reported on internal documents known as INFO-COMMs); previously ungeocoded addresses which obtained geocodes from the Census Bureau research of ungeocoded addresses in the Master Address File; new addresses from periodic postal updates; records added by Update/Leave; and addresses provided in the New Construction operation by Tribal and local governments.

In August through early September 2010, the Census Bureau will conduct the Field Verification operation. The Field Verification operation is a final check for certain address records from sources such as Be Counted, Telephone Questionnaire Assistance (TQA), Group Quarters Enumeration, questionnaire fulfillment and TQA interview, as well as particular categories of housing-level cases identified through person matching for the CFU operation. Data collection for the 2010 Census ended in the Local Census Offices in September 2010. The Census Bureau strictly enforces the schedule to allow the time to produce the State-level apportionment counts by December 31, 2010, as required by law.

Relevant 2010 Census Data Releases

The Redistricting Data (Pub. L. 94-171) are scheduled for release from February through March 2011. In May 2011, the Census Bureau will release an advance tabulation of group quarters population and type to the public through a file transfer protocol site. This “Advance Release of Group Quarters Data from Summary File 1” will include block-level Group Quarters (GQ) population counts by GQ type. The Demographic Profile table, which contains selected population and housing characteristics, will also be released in May 2011. The release of Summary File 1 (SF1) on a flow basis to States will occur between June and August 2011. The SF1 will contain block-level housing unit and group quarters population counts. Collectively, these census data products will provide participants with appropriate tools for accessing the accuracy of their decennial census counts.

State, local, and Tribal area government officials must contact the Census Bureau CQR Office in order to initiate the challenge process. The Census Bureau will also accept challenges on official jurisdictional letterhead from county clerks, city planners, local planning board representatives, and State legislative representatives with redistricting functions within each State and State equivalents who are acting on the behalf of a local or Tribal jurisdiction to submit a challenge.

Types of Challenges Considered for the 2010 Census CQR Program

The 2010 Census CQR program may make corrections as a result of the following three types of challenges:

(1) Boundary—The CQR program may address the inaccurate reporting or the inaccurate recording of boundaries legally in effect on January 1, 2010. The Census Bureau needs to ensure that the geographic assignment information provided by governmental units does not, in fact, reflect boundary changes made after January 1, 2010.

(2) Geocoding—These challenges affect placement of living quarters and associated population within the correct governmental unit boundaries and census tabulation blocks.

(3) Coverage—These challenges, if upheld by the Census Bureau, result in the addition or deletion of specific living quarters and persons associated with them identified during the census process, but are erroneously included as duplicates or excluded due to processing errors.

Challenges That Result in Corrections

The Census Bureau will issue corrected CQR counts based on the housing unit and population counts as of April 1, 2010. The governmental units may use new official census counts for all programs requiring official 2010 Census data. The Census Bureau will not make corrections to the data concerning the characteristics of the population and housing inventory. The Census Bureau will modify the decennial file reflecting the corrected counts for generating the 2012 postcensal estimates. The American FactFinder will provide the inventory of corrections as errata to the original data. The Census Bureau will not revise 2010 Census base files, 2010 Census apportionment counts, redistricting data, or 2010 Census data products. The governmental units may use new official Census counts for all programs requiring official 2010 Census data. The Census Bureau will send a letter with a certification of the population and housing for all jurisdictions affected by the results of a successful CQR challenge.

Challenges That Do Not Result in Corrections

When a State, local, or Tribal area government provides evidence that the Census Bureau missed housing units or group quarters that existed on April 1, 2010, but the CQR research and 2010 Census records show that all of the Census Bureau's boundary information, geocoding, and processing were correctly implemented, the Census Bureau will respond by sending a letter to the official or his/her representative stating that the Census Bureau will maintain the documentation for consideration in the context of address list updating activities in the future but will not issue a revised count.

Internal Census Bureau Review

The primary internal review process for the 2010 Census counts is the Count Review program. This program started in February 2010, with Census Bureau staff and members of the Federal-State Cooperative Program for Population Estimates (FSCPE) working together to review address lists and identify clusters of missing housing unit addresses. The Count Review program also includes Census Bureau staff review of population and housing unit count totals prior to the release of the data. In August 2010, the FSCPE representatives will review the 2010 Census group quarters population counts.

Findings from the Count Review program may result in cases for the CQR program if there is insufficient time to make corrections before the end of the Count Review operation. The Count Review program staff will create internal CQR challenges for all unresolved issues within the scope of the CQR program. The Census Bureau may make count corrections as result of this internal review and include them in the CQR process. In cases where the Census Bureau makes changes to the housing unit and/or population counts, new official counts will be issued to the affected jurisdictions, and the results will be included in the same file as CQR external cases. However, the Census Bureau will not make changes to the 2010 Census data products due to a successful CQR challenge.

II. Method of Collection

Criteria for Acceptable Documentation Necessary to Initiate the 2010 Census CQR Process

The Census Bureau requires documentation before committing resources to investigate concerns raised by State, local, or Tribal area officials or their representatives about boundary and geographic assignment errors or the accuracy of the census housing unit or group quarters population counts. The submitted challenges must specify whether the challenge disputes the location of a governmental unit boundary or the number of housing units and/or group quarters population counts in one or more census tabulation blocks, or both. The challenger must provide the following documentation based on the type of challenge:

• For boundary challenges, indicate on a map the location of the governmental unit boundary in dispute and show where the Census Bureau incorrectly depicts the boundary. Show the correct boundary legally effective January 1, 2010. (See the section “Types of Acceptable Maps”.)

• For geocoding and coverage challenges, identify the specific contested 2010 Census tabulation block and a list of the addresses for all housing units or group quarters in that block on April 1, 2010. (See the section “Challenge Criteria.”)

Boundary Challenge Criteria

State, local, or Tribal area governments must base challenges on boundaries legally in effect on January 1, 2010. The Census Bureau will compare the maps and appropriate supporting documentation submitted by the challenging governmental unit with the information used by the Census Bureau to depict the boundaries for the 2010 Census.

Maps submitted by State, local or Tribal area governments must show the correct location of the boundary and the portion of the boundary that the Census Bureau potentially depicted incorrectly, including the 2010 Census tabulation block numbers associated with the boundary. The State, local, or Tribal area government must also provide the Census Bureau with a list of addresses in challenged 2010 Census tabulation blocks, indicating their location in relationship to the boundary that the governmental unit wants the Census Bureau to correct.

For boundary challenges affected by legal actions not recorded by the Census Bureau, governmental units must submit the effective date and the ordinance number or law that effectuated the change in boundaries, provide evidence that the State certifying official has approved the boundary change if required by State law, and provide a statement that the boundary is not under litigation.

Types of Acceptable Maps

• 2010 Census Public Law 94-171 County Block Maps—The Census Bureau produces these maps as a reference for the Redistricting Data Files available for all States, the District of Columbia, and Puerto Rico.

• 2010 Census County Block Maps—The Census Bureau produces maps as a reference to the Summary File 1 data.

• The 2010 TIGER/Line File—The Census Bureau provides digital data in ESRI shapefile format. The governmental unit may generate maps based on information from the Census Bureau 2010 TIGER/Line shapefiles using a commercial geographic information system (GIS). These maps must identify the State, county, governmental unit, census tract, census tabulation block, and any other legal entity involved in a challenge. If a challenge involves an American Indian reservation or off-reservation trust lands, the maps must identify the American Indian area, census Tribal tract, and census tabulation block boundary.

Challenge Criteria

Housing Unit Count

The Redistricting Data (Pub. L. 94-171) Summary File can be used to obtain census tabulation block housing unit counts. Summary File 1 can also be used to obtain census tabulation block housing unit counts. Challenges must include a complete address list for all units that the challenger thinks the Census Bureau should include in each contested block. (Refer to the section “Types of Address Lists.”) State, local, or Tribal area officials must certify that the addresses on their lists existed and could be lived in on April 1, 2010. The supporting evidence must specifically show the validity of any address and reflect residential addresses that existed as viable living quarters on April 1, 2010. Challenges to housing unit counts must specify the 2010 Census Tract and tabulation block(s) for which the counts are being challenged.

Group Quarters Population Count

The “Advance Release of Group Quarters Data from Summary File 1” provides the group quarters population counts for 2010 census tabulation blocks. Summary File 1 itself may also be used to obtain census tabulation blocks and Group Quarters population counts. Challenges must include a complete address list for all group quarters buildings that the challenger thinks the Census Bureau should include in each contested block. The State, local, or Tribal area official must certify that the addresses on their lists existed and could be lived in on April 1, 2010. Supporting evidence that specifically reflects the validity of any address list source showing the population within a group quarters must be dated no later than April 1, 2010. Challenges to group quarters population counts must specify the associated 2010 Census Tract and census tabulation block(s).

Types of Address Lists

• City-Style Address Lists—A city-style address must include house number, street name, city, State, ZIP Code and county. The city-style address list must be organized by 2010 Census tabulation block within 2010 Census Tract. Also include applicable housing unit identifiers in multi-unit buildings (such as apartment numbers). The Census Bureau requests the challenger use the address list template provided on the CQR Web site and submit the challenge electronically. In addition, mark the exact location of each challenged address on a map containing 2010 Census Tract and tabulation block(s).

• Non-City Style Address Lists—Non-city style addresses include rural route addresses and any other addresses that do not contain a complete house number, street name, city, State, ZIP Code, and county. The non-city style address list must be organized by 2010 Census tabulation block within census tract. If a household receives mail at a post office box address, provide the E-911 address, if it exists. The State, local or Tribal area government must provide the exact location for each challenged address on a map containing 2010 Census Tract and tabulation block(s). Focus the list on the specific area where the challenged addresses exist. All addresses in the challenged block must contain a description of the housing unit and location.

• Group Quarters Address Lists—Group Quarters addresses can include city style or non-city style addresses. Provide the group quarters name, number and street address, city, State, ZIP Code, county, and telephone number for the contact at the group quarters as of April 1, 2010. The group quarters address list must be organized by 2010 Census tabulation block within census tract. The challenger must provide documentation that supports the number of persons residing at the Group Quarters on April 1, 2010. In addition, provide the 2010 Census Tract and tabulation block number for the location of the group quarters including the exact location for each challenged address on a map containing 2010 Census Tract and tabulation block(s).

Census Bureau Actions

The Census Bureau will investigate acceptable challenges to determine whether it can identify information about the existence of a housing unit or occupied group quarters on April 1, 2010, that does not appear in the final census files due to an error in processing the information. The Census Bureau will neither collect new data nor make changes to apportionment counts, redistricting data, or any 2010 Census data products.

Definitions of Key Terms

American FactFinder—An interactive Web site for accessing and disseminating the results of many Census Bureau programs. The system is available through the Internet and the Census Bureau will use it to disseminate the results of the 2010 Census. The American FactFinder Web site can be found at: http://factfinder.census.gov.

Census Tabulation Block—A geographic area bounded by visible features, such as streets, roads, streams, and railroad tracts, and by nonvisible boundaries, such as city, town, township, and county limits, and short line-of-sight extensions of streets and roads. Generally, census blocks are small in area; for example, a block in a city bounded on all sides by streets. Census blocks in suburban and rural areas may be large, irregular, and bounded by a variety of features. In remote areas, census blocks may encompass hundreds of square miles. Census blocs are the smallest geographic entities for which the Census Bureau tabulates decennial census information.

Census Tract—Small, relatively permanent statistical subdivisions of a county or equivalent entity updated by local participants prior to each decennial census as part of the Census Bureau's Participant Statistical Areas Program in accordance with Census Bureau guidelines. Census tracts generally have a population size between 1,200 and 8,000 people, and have an optimum size of 4,000 people.

County or county equivalent—The primary legal subdivision of most States. In Louisiana, these divisions are known as parishes. In Alaska, which has no counties, the equivalent entities are boroughs, city and boroughs, municipalities, and census areas; the latter of which are delineated cooperatively for statistical purposes by the State of Alaska and the Census Bureau. In Puerto Rico, the primary divisions are municipios.

Demographic Profile—A table containing data that shows information on total population, sex, age, race, Hispanic or Latino origin, household relationship, group quarters population, household type, housing occupancy, and housing tenure.

Group Quarters—A group quarters is defined as a place where people live or stay, in a group living arrangement that is owned or managed by a governmental unit or organization providing housing and services for the residents. This is not a typical household-type living arrangement. These services may include custodial or medical care as well as other types of assistance, and residency is commonly restricted to those receiving these services. People living in group quarters are usually not related to each other. The two general types of group quarters are institutional and non-institutional. Institutional group quarters include: Nursing homes, mental hospitals and psychiatric units in other hospitals, hospitals with patients who have no usual home elsewhere, inpatient hospice facilities, correctional facilities for adults and juveniles, and residential schools for people with disabilities. Non-institutional group quarters include: College or university dormitories and residence halls, military barracks, group homes, shelters, convents, migratory farm worker camps, military ship, and maritime/merchant vessels. Group quarters may have housing for staff as their usual residence at the group quarters address.

Housing unit—Living quarters in which the occupants live separately from any other individuals in the building and have direct access to their living quarters from outside the building or through a common hall. Housing units include such places as houses, apartments, mobile homes or trailers, groups of rooms, or a single room that is occupied as a separate living quarters, or if vacant, is intended for occupancy as a separate living quarters. A housing unit is defined as a living quarters that is closed to the elements and has all exterior windows and doors installed and final usable floors in place. For vacant units, the criteria of separateness and direct access are applied to the intended occupants, whenever possible. If the Census Bureau cannot obtain the information, the criteria are applied to the previous occupants.

Municipio—The primary legal subdivision of Puerto Rico (equivalent to county).

Overseas counts—Counts of military and Federal civilian personnel stationed overseas with their dependents living with them.

Postcensal Estimates—Population estimates for the years following the last published decennial census. The Census Bureau uses existing data series, such as births, deaths, Federal tax returns, Medicare enrollment, immigration, and housing unit information, to update the decennial census counts during the estimating process. These estimates are used in Federal funding allocations, monitoring recent demographic trends, and benchmarking many Federally funded survey totals.

Public Law 94-171—The Federal law amending Section 141 of Title 13 directs the Secretary of Commerce (who delegates that responsibility to the Director of the Census Bureau) to provide selected decennial census data tabulations to the States by April 1 of the year following the census. These tabulations are used by the States to redistrict areas used for elections such as congressional, legislative and school districts. In addition, the data are used for local redistricting such as the drawing of county council and city council districts.

Summary File 1—A data file that presents decennial census counts and basic cross-tabulations of information collected from all people and housing units. This information includes age, sex, race, Hispanic or Latino origin, household relationship, and whether the residence is owned or rented. Data will be available at the block level, but limited to the 2010 census tract level in cases where there are concerns with disclosure. The Census Bureau also will include summaries for other geographic areas, such as ZIP code tabulation areas and Congressional Districts.

Exhibit—Additional Information

This section provides additional information about the 2010 Census CQR program.

1. Where Should a Governmental Unit Submit a Challenge for the 2010 Census CQR Program?

Governmental units challenging the completeness or accuracy of the 2010 Census counts need to submit their challenge in writing to: Count Question Resolution Program, Room 3H061, Decennial Management Division, U.S. Census Bureau, Washington, DC 20233-0001. Governmental units can submit their challenge electronically to dmd.cqr@census.gov.

2. Will the Census Bureau Make Corrections to the Census Counts Based on Information Submitted by Governmental Units?

The Census Bureau will make corrections if research indicates they are warranted. The Census Bureau will base its determination of whether a correction is necessary or not, on the quality and completeness of the information provided by Tribal, and local governmental unit representatives and the results of the Census Bureau's research of the census records.

3. Which Governmental Units Are Eligible To Submit a CQR Challenge?

The Census Bureau will research and, if necessary, correct the counts for:

1. Counties and statistically equivalent entities.

2. Functioning minor civil divisions.

3. Incorporated places, including consolidated cities.

4. Census Designated Places in Hawaii and Puerto Rico only.

5. Federally recognized American Indian reservations and off-reservation trust lands.

6. American Indian Tribal subdivisions.

7. State-recognized American Indian reservations (submitted by a State official).

8. Alaska Native Regional Corporations.

9. Alaska Native Village Statistical Areas.

10. Tribal-designated statistical areas.

11. Oklahoma Tribal statistical areas.

12. State-designated Tribal statistical areas (submitted by a State official).

13. Hawaiian home lands (submitted by a State official).

The Census Bureau will not accept challenges for any other types of statistical or legally defined areas.

4. Will the Census Bureau Incorporate Corrections from the CQR Program into the (1) Apportionment, (2) Redistricting Data, or (3) 2010 Census Data Products?

(1) In accordance with the law, the apportionment counts are delivered to the President by December 31, 2010. The Census Bureau will not change the apportionment counts to reflect corrections resulting from the CQR program.

(2) The Census Bureau plans to begin delivery to States of the counts required for redistricting purposes in February 2011 and will complete this delivery by the statutory deadline of March 31, 2011. The Census Bureau will not change the data in these products to reflect the results of CQR challenges.

(3) The Census Bureau will not incorporate CQR corrections into any 2010 Census data products. The planned CQR program allows the Census Bureau to maintain consistency between data products while maintaining the schedule for timely release of the data. However, the Census Bureau will issue revised, certified population and housing unit counts for the affected governmental unit(s), maintain a list of CQR corrected geographic areas on the American Factfinder, and/or other Census Bureau URL locations, and will incorporate any corrections into its Postcensal Estimates program beginning in December 2012.

III. Data

OMB Number: Not available.

Form Number: None.

Type of Review: Regular.

Affected Public: State, local, or Tribal area governmental units in the United States and Puerto Rico.

Estimated Number of Respondents: Approximately 1,500 annually.

Estimated Time per Response: 5.2 hours (based on an average challenge of 40 housing units).

Estimated Total Annual Burden Hours: 7,800 hours.

Estimated Total Annual Cost: $122,220.00.

Respondent's Obligation: Voluntary.

Legal Authority: Title 13, U.S.C., Section 141.

IV. Request for Comments

Comments are invited on: (a) Whether the proposed collection of information is necessary for the proper performance of the functions of the agency, including whether the information shall have practical utility; (b) The accuracy of the agency's estimate of the burden (including hours and cost) of the proposed collection of information; (c) Ways to enhance the quality, utility, and clarity of the information to be collected; and (d) Ways to minimize the burden of the collection of information on respondents, including through the use of automated collection techniques or other forms of information technology.

The Census Bureau will summarize and/or include comments submitted in response to this notice in the request for OMB approval of this information collection; the comments also will become a matter of public record.

Dated: May 21, 2010.
Glenna Mickelson,
Management Analyst, Office of the Chief Information Officer.

[FR Doc. 2010-12626 Filed 5-25-10; 8:45 am]

BILLING CODE 3510-07-P